DEPARTMENT OF ENERGY

Federal Energy Regulatory Commission

[Docket No. RP97-13-012]

East Tennessee Natural Gas Company; Notice of Negotiated Rate Filing

April 15, 2004.

Take notice that on April 9, 2004, East Tennessee Natural Gas Company (East Tennessee) tendered for filing its negotiated rate transactions with Washington Gas Light Company (WGL) pursuant to East Tennessee's Rate Schedule FT-A and with Lenoir City Utilities Board (LCUB) pursuant to East Tennessee's Rate Schedule FT-GS.

East Tennessee states that the purpose of this filing is to implement negotiated rate agreements for firm service to be rendered on East Tennessee pursuant to the WGL and LCUB service agreements. East Tennessee requests that the Commission accept for filing the WGL Negotiated Rate Agreement effective January 12, 2004, and the LCUB Negotiated Rate Agreement effective March 1, 2004. In addition, East Tennessee requests that the Commission grant any authorizations and waivers of the Commission's regulations to the extent necessary to permit the agreements to be made effective as proposed.

East Tennessee states that copies of the filing were sent to all affected customers of East Tennessee and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-897 Filed 4-20-04; 8:45 a.m.]

BILLING CODE 6717-01-P